DEPARTMENT OF ENERGY

Federal Energy Regulatory Commission

[Docket No. RP00-221-002]

CNG Transmission Corporation; Notice of Proposed Changes in FERC Gas Tariff

May 2, 2000.

Take notice that on April 27, 2000, CNG Transmission Corporation (CNG) tendered for filing as part of its FERC Gas Tariff, First Revised Volume No. 1A, Substitute Second Revised Sheet No. 14 with an effective date of April 1, 2000.

CNG states that the purpose of the filing is to comply with the Commission's April 18, 2000 letter order in this proceeding correcting the classification of Line H-156 to transmission as required by the Commission's order issued in Docket No. CP97-549-000.

CNG states that copies of this letter of transmittal and enclosures are being served upon parties listed on the official service list.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11359 Filed 5-5-00; 8:45 am]

BILLING CODE 6717-01-M